DEPARTMENT OF ENERGY

Extension of a Currently Approved Information Collection for the State Energy Program

AGENCY: Office of Energy Efficiency and Renewable Energy, U.S. Department of Energy.

ACTION: Notice and request for comments.

SUMMARY: The Department of Energy (DOE), pursuant to the Paperwork Reduction Act of 1995, intends to extend for three years a currently approved collection of information with the Office of Management and Budget (OMB). The information collection request, State Energy Program, was previously approved on June 30, 2017 under OMB Control No. 1910-5126 and its current expiration date is June 30, 2020.

DATES: Comments regarding this collection must be received on or before January 3, 2020. If you anticipate difficulty in submitting comments within that period, contact the person listed below as soon as possible.

ADDRESSES: Written comments may be sent to Gregory Davoren, EE-5W, U.S. Department of Energy, 1000 Independence Ave. SW, Washington, DC 20585 or by email at Gregory.Davoren@ee.doe.gov.

FOR FURTHER INFORMATION CONTACT: Requests for additional information or copies of the information collection instrument and instructions should be directed to Amy Royden-Bloom, EE-5W, U.S. Department of Energy, 1000 Independence Ave. SW, Washington, DC 20585 or by email at Amy.Royden-Bloom@ee.doe.gov.

SUPPLEMENTARY INFORMATION: Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology. This information collection request contains: (1) OMB No.: 1910-5126; (2) Information Collection Request Title: “State Energy Program (SEP)”; (3) Type of Review: Extension of a Currently Approved Collection; (4) Purpose: To collect information on the status of grantee activities, expenditures, and results, to ensure that program funds are being used appropriately, effectively and expeditiously; (5) Annual Estimated Number of Respondents: 56; (6) Annual Estimated Number of Total Responses: 224; (7) Annual Estimated Number of Burden Hours: 7,456; (8) Annual Estimated Reporting and Recordkeeping Cost Burden: $315,232.

Statutory Authority: Title 42, Chapter 81, Subchapter III, Part A of the United States Code (U.S.C.), (42 U.S.C. 6867(a)).

Issued in Washington, DC, October 22, 2019.
AnnaMaria Garcia,
Director, Weatherization and Intergovernmental Program Office of Energy Efficiency and Renewable Energy, U.S. Department of Energy.

[FR Doc. 2019-24041 Filed 11-1-19; 8:45 am]

BILLING CODE 6450-01-P